DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground Modified
Town of Mapleton, Maine
Docket No.: FEMA-B-7708
Maine | Town of Mapleton | Aroostook River | Downstream of Mapleton Corporate Limit | +433
|  |  | Upstream of Mapleton Corporate Limit | +435
|  | Clayton Brook | Approximately 1,000 feet downstream of old Railroad Grade | +471
|  |  | Approximately 2,000 feet upstream of Hughes Road | +583
|  | Hanson Brook | Confluence with Hanson Lake | +504
|  |  | Just upstream of Bagley Road | +515
|  | Hanson Lake | Hanson Lake | +504
|  | Libby Brook | Confluence with North Branch Presque Isle | +524
|  |  | Upstream of Mapleton Corporate Limit | +584
|  | North Branch Presque Isle Stream | Confluence with Presque Isle Stream | +440
|  |  | Upstream of Town of Mapleton Corporate Limit | +527
|  | Presque Isle Stream | Just downstream of confluence with Arnold Brook | +440
|  |  | Upstream of Mapleton Corporate Limit | +448
|  | Tea Kettle Brook | Confluence of North Branch Presque Isle Stream | +468
|  |  | Just upstream of Pulcifur Road | +470
|  | Unnamed Brook | Confluence with North Branch Presque Isle Stream | +458
|  |  | Just upstream of Creasy Ridge Road | +508
* National Geodetic Vertical Datum.
+ North American Vertical Datum.
# Depth in feet above ground.
ADDRESSES
Town of Mapleton
Maps are available for inspection at 103 Pulcifur Road, P.O. Box 500, Mapleton, ME 04757.

Flooding source(s) | Location of referenced elevation | * Elevation in feet (NGVD) + Elevation in feet (NAVD) # Depth in feet above ground Modified | Communities affected
Livingston County, Illinois, and Incorporated Areas
Docket No.: D-7694
Vermilion River | Approximately 4H Park Road | +633 | Livingston County (Unincorporated Areas).
| Approximately 1,550 feet above 4H Park Road | +633
| Approximately Manlove Street extended | +641 | Livingston County (Unincorporated Areas).
| Approximately 700 feet above Pearl Street extended | +642
Indian Creek | Approximately 2,775 feet above Road 900N | +666 | Livingston County (Unincorporated Areas).
| Approximately Third Street extended | +674
Gooseberry Creek | Approximately East Livingston Road (Livingston/Grundy County Boundary) | +619 | Livingston County (Unincorporated Areas).
| Approximately 1,050 feet downstream of Union Pacific Railroad | +628
| Approximately Washington Street | +636 | Livingston County (Unincorporated Areas).
| Approximately 150 feet above Fieldman Road (CR-3100N) | +641
* National Geodetic Vertical Datum.
+ North American Vertical Datum.
# Depth in feet above ground.
ADDRESSES
Livingston County (Unincorporated Areas)
Maps are available for inspection at the Livingston County Regional Planning Commission, 110 West Water Street, Suite 3, Pontiac, IL 61764.
Ashtabula County, Ohio, and Incorporated Areas
Docket No.: D-7800
Lake Erie | Entire Lake Erie coastline within the corporate limits of City of Ashtabula | +576 | City of Ashtabula.
| Entire Lake Erie coastline within the corporate limits of City of Conneaut | +576 | City of Conneaut.
| Entire Lake Erie coastline within the corporate limits of Village of Geneva-On-The-Lake | +576 | Village of Geneva-On-The-Lake.
| Village of North Kingsville—Entire Lake Erie coastline within the corporate limits of Village of North Kingsville | +576 | Village of North Kingsville.
| Entire Lake Erie coastline within the Unincorporated Areas of Ashtabula County | +576 | Ashtabula County (Unincorporated Areas).
* National Geodetic Vertical Datum.
+ North American Vertical Datum.
# Depth in feet above ground.
ADDRESSES
City of Ashtabula
Maps are available for inspection at 4717 Main Avenue, Ashtabula, OH 44004.
City of Conneaut
Maps are available for inspection at 294 Main Street, Conneaut, OH 44030.
City of Geneva
Maps are available for inspection at 44 North Forest Street, Geneva, OH 44041.
Ashtabula County (Unincorporated Areas)
Maps are available for inspection at 25 West Jefferson Street, Jefferson, OH 44047.
Village of Geneva-On-The-Lake
Maps are available for inspection at 25 West Jefferson Street, Jefferson, OH 44047.
Village of Jefferson
Maps are available for inspection at 27 East Jefferson Street, Jefferson, OH 44047.
Village of North Kingsville
Maps are available for inspection at 3541 East Center Street, North Kingsville, OH 44068.
Village of Roaming Shores
Maps are available for inspection at 2500 Hayford Road, Roaming Shores, OH 44084.
Village of Rock Creek
Maps are available for inspection at West Water Street, Rock Creek, OH 44084.
Morrow County, Oregon, and Incorporated Areas
Docket No.: FEMA-B-7705
Blackhorse Canyon | Approximately 480 feet downstream from Arcade Street Bridge | +1442 | City of Lexington.
| Approximately 0.4 miles upstream from SR 74 | +1479
Hinton Creek | Downstream side of Main Street Bridge | +1930 | City of Heppner, Morrow County (Unincorporated Areas).
| Approximately 560 feet upstream from SR 74 | +2045
Little Blackhorse Canyon | Approximately 350 feet downstream from SR 74 Culvert | +1872 | Morrow County (Unincorporated Areas).
| Approximately 1.0 miles upstream from SR 74 | +2120
Lorraine Canyon | Approximately 130 feet downstream from SR 74 | +1093 | City of Ione.
| Approximately 720 feet upstream from SR 74 | +1159
Rietmann Canyon | Approximately 250 feet downstream of SR 74 Bridge | +1099 | City of Ione.
| Approximately 500 feet upstream of SR 74 Bridge | +1115
Shobe Creek | Approximately 400 feet downstream from Chase Street Bridge | +1960 | City of Heppner, Morrow County (Unincorporated Areas).
| Approximately 0.4 miles upstream from SR 207 | +2162
Willow Creek | Approximately 2.1 miles downstream from Fuller Canyon Road | +1793 | City of Heppner, Morrow County (Unincorporated Areas).
| Approximately 625 feet upstream of Alfalfa Street Bridge | +1977
| Approximately 1400 feet downstream from Gooseberry Road | +1069 | City of Ione, Morrow County (Unincorporated Areas).
| Approximately 0.8 miles upstream from Gooseberry Road | +1100
| Approximately 0.9 miles downstream of B Street Bridge | +1408 | City of Lexington, Morrow County (Unincorporated Areas).
| Approximately 800 feet upstream of B Street Bridge | +1458
* National Geodetic Vertical Datum.
+ North American Vertical Datum.
# Depth in feet above ground.
ADDRESSES
City of Heppner
Maps are available for inspection at 111 N. Main Street, Heppner, OR 97836.
City of Ione
Maps are available for inspection at City Hall, 385 West 2nd, Ione, OR 97843.
City of Lexington
Maps are available for inspection at City Hall, 150 Main Street, Lexington, OR 97839.
Morrow County (Unincorporated Areas)
Maps are available for inspection at Morrow County Planning Department, 205 NE 3rd Street, Irrigon, OR 97844.
Fall River County, South Dakota, and Incorporated Areas
Docket No.: FEMA-B-7702
Fall River | Confluence with Cheyenne River | +3,046 | City of Hot Springs, Fall River County (Unincorporated Areas).
| Approximately 0.25 miles upstream of Battle Mountain Avenue | +3,476
* National Geodetic Vertical Datum.
+ North American Vertical Datum.
# Depth in feet above ground.
ADDRESSES
Fall River County (Unincorporated Areas)
Maps are available for inspection at: County Courthouse, 906 North River Street, Hot Springs, South Dakota.
City of Hot Springs
Maps are available for inspection at: City Hall, 303 North River Street, Hot Springs, South Dakota.
Henrico County, Virginia, and Incorporated Areas
Docket Nos.: FEMA-B-7460 and FEMA-B-7709
Allens Branch | Approximately at the confluence with Chickahominy River | +197 | Henrico County (Unincorporated Areas).
| Approximately 250 feet downstream from the I-295 Ramp | +214
Chickahominy River | Approximately at Creighton Road | +77 | Henrico County (Unincorporated Areas).
| Approximately 1900 feet downstream from Shady Grove Road | +218
Copperas Creek | Approximately at the confluence with Tuckahoe Creek | +144 | Henrico County (Unincorporated Areas).
| Approximately 150 feet downstream from Waterford Way East | +220
Tributary 2 | Approximately at the confluence with Copperas Creek | +160 | Henrico County (Unincorporated Areas).
| Approximately 2000 feet upstream from Ridgefield Parkway | +206
Fourmile Creek | Approximately at the confluence with James River | +11 | Henrico County (Unincorporated Areas).
| Approximately 2000 feet upstream from Doran Road | +92
Tributary 7 | Approximately at the confluence with Fourmile Creek | +85 | Henrico County (Unincorporated Areas).
| Approximately 775 feet upstream from the Footbridge | +88
Gillies Creek Tributary 1 | Approximately at the confluence with Gillies Creek | +121 | Henrico County (Unincorporated Areas).
| Approximately 250 feet downstream from South Kalmia Avenue | +154
Harding Branch | Approximately at the confluence with Tuckahoe Creek | +148 | Henrico County (Unincorporated Areas).
| Approximately 2500 feet upstream from Park Terrace Drive | +240
Tributary 1 | Approximately at the confluence with Harding Branch | +168 | Henrico County (Unincorporated Areas).
| Approximately 1000 feet upstream from the confluence with Harding Branch | +171
Heckler Village Tributary 1 | Approximately at the confluence with Gillies Creek | +109 | Henrico County (Unincorporated Areas).
| Approximately 1100 feet upstream from Colwyck Drive | +145
Tributary 2 | Approximately at the confluence with Gillies Creek | +138 | Henrico County (Unincorporated Areas).
| Approximately 1600 feet upstream from Wynfield Terrace | +158
Horsepen Branch | Approximately at the confluence with Upham Brook | +174 | Henrico County (Unincorporated Areas).
| Approximately 300 feet upstream from Devers Road | +218
James River | Approximately 2100 feet southeast of the intersection of Osborne Landing and Kingsland Road | +16 | Henrico County (Unincorporated Areas).
| Approximately 1250 feet northwest of the intersection of Stancraft Way and Old Osborne Turnpike | +32
Meredith Branch | Approximately at the confluence with Chickahominy River | +186 | Henrico County (Unincorporated Areas).
| Approximately 500 feet downstream from Broad Meadows Road | +230
North Run | Approximately at the confluence with Upham Brook | +120 | Henrico County (Unincorporated Areas).
| Approximately 400 feet upstream from the confluence with Upham Brook | +120
Rooty Branch | Approximately 600 feet downstream from Nuckols Road | +221 | Henrico County (Unincorporated Areas).
| Approximately 1800 feet upstream from Nuckols Road | +233
Tributary A to Gillies Creek Tributary 1 | Approximately at the confluence with Gillies Creek Tributary 1 | +146 | Henrico County (Unincorporated Areas).
| Approximately 1200 feet upstream from Yates Lane | +158
Tributary A to Gillies Creek Tributary 1 | Approximately at the confluence with Tributary A to Gillies Creek Tributary 1 | +150 | Henrico County (Unincorporated Areas).
| Approximately 750 feet south from Nine Mile Road | +160
Allens Branch | Approximately at the confluence with Chickahominy River | +197 | Henrico County (Unincorporated Areas).
| Approximately 250 feet downstream from the I-295 Ramp | +214
Chickahominy River | Approximately at Creighton Road | +77 | Henrico County (Unincorporated Areas).
| Approximately 1900 feet downstream from Shady Grove Road | +218
Copperas Creek | Approximately at the confluence with Tuckahoe Creek | +144 | Henrico County (Unincorporated Areas).
| Approximately 150 feet downstream from Waterford Way East | +219
Tributary 2 | Approximately at the confluence with Copperas Creek | +160 | Henrico County (Unincorporated Areas).
| Approximately 2000 feet upstream from Ridgefield Parkway/Cambridge Drive | +206
Fourmile Creek | Approximately at the confluence with James River | +11 | Henrico County (Unincorporated Areas).
| Approximately 2000 feet upstream from Doran Road | +92
Tributary 7 | Approximately at the confluence with Fourmile Creek | +85 | Henrico County (Unincorporated Areas).
| Approximately 775 feet upstream from the Footbridge | +88
Gillies Creek Tributary 1 | Approximately at the confluence with Gillies Creek | +121 | Henrico County (Unincorporated Areas).
| Approximately 250 feet downstream from South Kalmia Avenue | +154
Harding Branch | Approximately at the confluence with Tuckahoe Creek | +148 | Henrico County (Unincorporated Areas).
| Approximately 2000 feet upstream from Park Terrace Drive | +241
Tributary 1 | Approximately at the confluence with Harding Branch | +168 | Henrico County (Unincorporated Areas).
| Approximately 1000 feet upstream from the confluence with Harding Branch | +171
Heckler Village Tributary 1 | Approximately at the confluence with Gillies Creek | +109 | Henrico County (Unincorporated Areas).
| Approximately 1100 feet upstream of Wynfield Terrace | +145
Tributary 2 | Approximately at the confluence with Gillies Creek | +138 | Henrico County (Unincorporated Areas).
| Approximately 1600 feet upstream from Wynfield Terrace | +158
Horsepen Branch | Approximately at the confluence with Upham Brook | +174 | Henrico County (Unincorporated Areas).
| Approximately 300 feet upstream from Devers Road | +218
James River | Approximately 5550 feet southeast of the intersection of Osborne Landing and Kingsland Road | +16 | Henrico County (Unincorporated Areas).
| Approximately 1250 feet northwest of the intersection of Stancraft Way and Old Osborne Turnpike | +32
Jordans Branch | Approximately at 2550 feet downstream of Interstate 64 | +160 | Henrico County (Unincorporated Areas).
| Approximately at 710 feet upstream of the Monument Avenue | +208
Meredith Branch | Approximately at the confluence with Chickahominy River | +186 | Henrico County (Unincorporated Areas).
| Approximately 500 feet downstream from Broad Meadows Road | +230
North Run | Approximately at the confluence with Upham Brook | +120 | Henrico County (Unincorporated Areas).
| Approximately 400 feet upstream from the confluence with Upham Brook | +120
Rooty Branch | Approximately 600 feet downstream from Yates Lane | +221 | Henrico County (Unincorporated Areas).
| Approximately 1800 feet upstream from Nuckols Road | +233
Tributary A to Gillies Creek Tributary 1 | Approximately at the confluence with Gillies Creek Tributary 1 | +145 | Henrico County (Unincorporated Areas).
| Approximately 1200 feet upstream from Yates Lane | +158
Tributary A to Gillies Creek Tributary 1 | Approximately at the confluence with Tributary A to Gillies Creek Tributary 1 | +150 | Henrico County (Unincorporated Areas).
| Approximately 750 feet south from Nine Mile Road | +160
* National Geodetic Vertical Datum.
+ North American Vertical Datum.
# Depth in feet above ground.
ADDRESSES
Henrico County (Unincorporated Areas)
Maps are available for inspection at Henrico West End Government Center, 4301 E. Parham Rd., Richmond, VA 23228.
Kitsap County, Washington, and Incorporated Areas
Docket No.: FEMA-B-7705
Clear Creek | Downstream side of NW Bucklin Hill Road | +13 | Kitsap County (Unincorporated Areas).
| Approximately 60 feet downstream of NW Mountain View Road | +180
* National Geodetic Vertical Datum.
+ North American Vertical Datum.
# Depth in feet above ground.
ADDRESSES
Kitsap County (Unincorporated Areas)
Maps are available for inspection at Department of Public Works, 614 Division Street, Administrative Building, Port Orchard, WA 98366.

(Catalog of Federal Domestic Assistance No. 97.022, “Flood Insurance.”)

Dated: June 27, 2007.
David I. Maurstad,
Federal Insurance Administrator of the National Flood Insurance Program, Department of Homeland Security, Federal Emergency Management Agency.

[FR Doc. E7-13181 Filed 7-6-07; 8:45 am]

BILLING CODE 9110-12-P